INTERNATIONAL TRADE COMMISSION

[USITC SE-03-039]

Sunshine Act Meeting

Agency Holding the Meeting: International Trade Commission.

Time and Date: December 4, 2003 at 11:30 a.m.

Place: Room 101, 500 E Street SW., Washington, DC 20436, Telephone: (202) 205-2000.

Status: Open to the public.

Matters to be Considered:

1. Agenda for future meetings: none.

2. Minutes.

3. Ratification List.

4. Inv. No. TA-421-4 (Market Disruption)(Certain Ductile Iron Waterworks Fittings from China)—briefing and vote. (The Commission is currently scheduled to transmit its determination on market disruption to the President and the United States Trade Representative on December 4, 2003.)

5. Outstanding action jackets: none.

In accordance with Commission policy, subject matter listed above, not disposed of at the scheduled meeting, may be carried over to the agenda of the following meeting.

Issued: November 25, 2003.
By order of the Commission.
Marilyn R. Abbott,
Secretary to the Commission.

[FR Doc. 03-29925 Filed 11-26-03; 11:16 am]

BILLING CODE 7020-02-P